DEPARTMENT OF HEALTH AND HUMAN SERVICES

Office of Community Services

[CFDA#: 53.570]

Notice To Award a Program Expansion Supplement

AGENCY: Office of Community Services, ACF, DHHS.

ACTION: Notice To Award a Program Expansion Supplement.

Legislative Authority: Sections 678A(a)(1)(A) of the Community Services Block Grant (CSBG) Act of 1981, (Pub. L. 97-35) as amended by the Community Opportunities, Accountability, and Training and Educational Services (COATES) Human Services Reauthorization Act of 1998, (Pub. L. 105-285) authorizes the Secretary of Health and Human Services (HHS) to use a percentage of appropriated funds for training technical assistance, planning, evaluation, performance measurement, monitoring, assistance for States in carrying out corrective actions and the correction of programmatic deficiencies of eligible entities under the CSBG Act.

Amount of Award: $50,926.

Project Period: 9/30/2007-9/29/2008.

Summary

This notice announces that the Administration for Children and Families (ACF), Office of Community Services intends to award a single-source program expansion to Community Action Program Legal Services, Inc (CAPLAW) located in Boston, MA in the amount of $50,926. This award will enhance CAPLAW's ability to advise and educate Community Action Agencies on legal issues with regard to effective operation and management. State agencies administering the CSBG program would be provided legal advice. This is particularly critical at this time due to the increased emphasis by funding sources on compliance with federal grants requirements and to changes in laws applicable to Community Action Agencies and programs they administer. CAPLAW would use the increased funding to hire an additional full-time attorney and an additional part-time staff person to handle communications and other administration.

FOR FURTHER INFORMATION CONTACT: Dr. Yolanda J. Butler, Deputy Director, Office of Community Services, 370 L'Enfant Promenade, SW., Washington, DC 20047. Telephone: 202-401-9333

Dated: June 2, 2008.
Josephine Robinson,
Director, Office of Community Services.

[FR Doc. E8-12806 Filed 6-6-08; 8:45 am]

BILLING CODE 4184-01-P